DEPARTMENT OF TRANSPORTATION

National Highway Traffic Safety Administration

[Docket No. NHTSA-2021-0039]

Agency Information Collection Activities; Notice and Request for Comment; State Data Transfer for Vehicle Crash Information

AGENCY: National Highway Traffic Safety Administration (NHTSA), Department of Transportation (DOT).

ACTION: Notice and request for comments on a request for approval of a new information collection.

SUMMARY: The National Highway Traffic Safety Administration (NHTSA) is re-issuing an announcement of our intention to request approval from the Office of Management and Budget (OMB) for a new information collection and inviting public comments. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on State Data Transfer for Vehicle Crash Information collection. On May 31, 2018 NHTSA published a notice in the Federal Register soliciting public comments with 60-day comment period. On July 23, 2018, NHTSA extended the comment period to September 14, 2018.¹ Four comments were received before the comment period expired. One comment from Governors Highway Safety Association was submitted after the comment period expired. Given the extended time since the publication of that notice, NHTSA is publishing this new 60-day notice to request comment on its proposed State Data Transfer information collection. This new notice addresses comments received on the original 60-day notice. This notice also announces that NHTSA has requested emergency clearance from OMB for this information collection.

¹ 83 FR 34912.

DATES: Comments must be submitted on or before August 2, 2021.

ADDRESSES: You may submit comments identified by the Docket No. NHTSA-2021-0039 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Michael Frenchik, Office of Data Acquisition, Safety Systems Management Division, (NSA-0130), (202) 366-0641, National Highway Traffic Safety Administration, W53-303, U.S. Department of Transportation, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: Stata Data Transfer (SDT) for Vehicle Crash Information.

OMB Control Number: New.

Form Number(s): None.

Type of Request: New.

Type of Review Requested: Regular.

Requested Expiration Date of Approval: 3 years from date of approval.

Summary of the Collection of Information

The State Data Transfer (SDT) program is a voluntary collection of motor vehicle crash data. State agencies collect this information about motor vehicle crashes on Police Accident Reports (PARs) ² for their own needs. In general, a PAR includes information about the vehicles and individuals involved in a crash, injuries or fatalities resulting from a crash, roadway information, environmental information, information to reconstruct the crash scenes, etc. The SDT is a process through which participating States transfer their PAR data to NHTSA. SDT has two components that NHTSA's National Center for Statistics and Analysis (NCSA) calls protocols:

² Police Accident Reports are also known as Police Crash Reports (PCRs) in some jurisdictions.

1. The State Data System (SDS) protocol obtains PAR crash data from States that submit data on an annual basis to NCSA. The data is submitted via electronic media, such as encrypted CD-ROM/DVD, or through secured mail or a secure file transfer protocol (SFTP). Files submitted through the SDS protocol are referred to as “annual crash files.”

2. The Electronic Data Transfer (EDT) protocol obtains PAR crash data, crash reports or crash images from participating State crash systems through an electronic data transfer. Generally, this transfer occurs on a nightly basis following State data quality control checks and acceptance from each State's centralized database. The information is transmitted using Extensible Markup Language (XML) or JavaScript Object Notation (JSON) files through a web service using Hypertext Transfer Protocol Secure (HTTPS) protocol between a State's crash data system and NHTSA.

The SDT process allows States to submit all of their PAR data to NHTSA. NCSA will then use this data to develop a census of the participating State's crashes. The dataset will help NCSA identify existing and emerging highway safety trends and assess the effectiveness of motor vehicle safety standards and new and emerging technologies on vehicle and highway safety programs. NHTSA will also use the dataset to support NHTSA's Corporate Average Fuel Economy (CAFE) program. Specifically, NHTSA will use the data to analyze the effects vehicle mass has on fatalities in cost benefit analyses for CAFE rulemakings.

Description of the Need for the Information and Proposed Use of the Information

NHTSA plans to utilize the SDT data to identify existing and emerging highway safety trends, assess the effectiveness of motor vehicle safety standards, and study the impact of new and emerging technologies on vehicles and highway safety programs. For example, NHTSA plans to combine data from the SDT with information about the type of advanced driver assistance systems (ADAS) on crash-involved vehicles to estimate the effectiveness of vehicles equipped with ADAS technologies such as lane keeping support, automatic emergency braking, blind spot detection, etc.

NHTSA also plans to use the SDT data to automatically pre-populate the motor vehicle crash data it collects for several other NHTSA data collection programs. The following are brief descriptions of these data collection programs:

• FARS (OMB Control No. 2127-0006) is a nationwide census of fatalities caused by motor vehicle traffic crashes. In addition to PAR data, FARS includes detailed information regarding the location of the crash, the vehicles, and the people involved. FARS cases can also include toxicology report data, medical records, medical examiner reports, etc.³

³ Additional details about FARS and how the agency collects this information are available in the supporting statements for the ICR with OMB Control No. 2127-0006.

• CRSS (OMB Control No. 2127-0714) is a nationally representative sample of police-reported crashes involving all types of motor vehicles, pedestrians, and cyclists, ranging from property-damage-only crashes to those that result in fatalities. CRSS data elements are a subset of the data elements on each State's PAR.⁴

⁴ Additional details about CRSS and how the agency collects this information are available in the supporting statements for the ICR with OMB Control No. 2127-0714.

• CISS (OMB Control Number 2127-0706) is a nationally representative sample of minor, serious, and fatal crashes involving at least one passenger vehicle—cars, light trucks, sport utility vehicles, and vans—towed from the scene. CISS collects data at both the crash level through scene analysis and the vehicle level through vehicle damage assessment together with injury coding. Data collected through CISS expands upon the information that is collected in a PAR.⁵

⁵ Additional details about CISS and how the agency collects this information are available in the supporting statements for the ICR with OMB Control No. 2127-0706.

• The SCI Program provides NHTSA with the most in-depth crash data collected by the agency. The data collected ranges from basic information contained in routine police and insurance crash reports, to comprehensive data from special reports produced by professional crash investigation teams. Hundreds of data elements relevant to the vehicle, occupants, injury mechanisms, roadway, and safety systems are collected for each of the over 100 crashes designated for study annually.

• NTS is a virtual data collection system designed to provide counts and details regarding fatalities and injuries that occur in non-traffic crashes and in non-crash incidents. NTS non-traffic crash data is obtained through NHTSA's information collections for CRSS and FARS. NTS non-crash injury data is based upon emergency department records from a special study conducted by the Consumer Product Safety Commission's National Electronic Injury Surveillance System (NEISS) All Injury Program. NTS non-crash fatality data is derived from death certificate information from the Centers for Disease Control's National Vital Statistics System.

• CIREN combines crash data collection with professional multidisciplinary analysis of medical and engineering evidence to determine injury causation in every crash investigation conducted. The mission of the CIREN is to improve the prevention, treatment, and rehabilitation of motor vehicle crash injuries to reduce deaths, disabilities, and human and economic costs.

Until recently, the transfer of vehicle crash data from a State's crash data system to NHTSA's FARS, CRSS and CISS required individuals to manually enter State vehicle crash data into each of the crash data systems operated by NHTSA. The SDT program will allow NHTSA to automate the transfer of State motor vehicle crash data into NHTSA's other data collection efforts that use this information. NHTSA's SDT program will reduce the burden for manual data entry and result in more accurate, high quality and timely data to help save lives, prevent injuries, and reduce economic costs due to motor vehicle crashes.

In addition, the SDT data will be made available to other DOT agencies, such as the Federal Highway Administration and the Federal Motor Carrier Safety Administration, to support their mission to save lives on our national roadways.

Request for Emergency Clearance

NHTSA has requested emergency clearance from OMB for the SDT information collection. NHTSA has requested emergency clearance for the maximum permissible period under 5 CFR 1320.13(f) to allow NHTSA to collect the information while it completes the normal clearance procedures. NHTSA has sought emergency clearance because the data collected through the SDT program are critical to several high priority projects for this administration. The SDT data will be used to analyze the effects vehicle mass has on fatalities in cost benefit analyses for CAFE rulemakings. E.O. 13990 requires NHTSA to “as appropriate and consistent with applicable law, [. . .] consider publishing for notice and comment a proposed rule suspending, revising, or rescinding” the SAFE II Rule “by July 2021.” Following the normal clearance procedures will not allow NHTSA to receive approval to collect and use this data before the deadline.

The Partnership for Analytics Research in Traffic Safety (PARTS) also needs this data to determine the effectiveness of automated driver assistance systems (ADAS) with Departmental leadership expecting initial analyses later this year.

Given the priorities identified above, this information is needed before NHTSA can complete the normal clearance procedures under 5 CFR part 1320. NHTSA requested that OMB approve or disapprove the collection of information within 3 days.

Public Comments

NHTSA published a notice in the Federal Register with a 60-day public comment period to announce the proposed EDT protocol part of SDT information collection on May 31, 2018 (83 FR 25112). On July 23, 2018, NHTSA extended the comment period to September 14, 2018, at the request of State-based stakeholders. The agency received five comments in response to the 60-day notice on the proposed information collection titled “State Data Transfer.” ⁶ NHTSA received comments from the Transportation Departments of Idaho, Montana, North Dakota, South Dakota, and Wyoming in a joint submission (referred to as “joint State commenters” in this document); ⁷ the Oregon Department of Transportation (ODOT); Commercial Vehicle Safety Alliance (CVSA); Governors Highway Safety Association (GHSA); and the Insurance Institute for Highway Safety (IIHS).

⁶ 83 FR 25112, May 31, 2018. NHTSA subsequently extended the comment deadline to September 14, 2018 (83 FR 34912, July 23, 2018).

⁷ The South Dakota Department of Public Safety concurs in these comments.

CVSA and IIHS were generally supportive of the program while State commenters expressed some concerns about program. The IIHS encouraged NHTSA to move forward with the State Data Transfer effort because the effort would allow for more timely analyses of the data and enable other opportunities to improve the accuracy of the information collected. GHSA expressed support for NHTSA's objective to provide more timely, complete, and high-quality data on motor vehicle crashes and stated that the electronic transfer of State crash data to NHTSA provides new opportunities to achieve this goal, as well as reduce time and cost for State data management activities. However, GHSA also commented that some States face significant barriers to participating.

After reviewing the comments, NHTSA has revised its estimates for number of respondents based on interest from the States and has reclassified the labor costs associated with the burden hour calculations. NHTSA believes the other concerns raised by the commenters can be addressed by providing clarification about the program and its impact on States.

Discussion of the comments is organized by topic below. NHTSA received comments and questions about the program as a whole and program participation; funding; cost and burden estimates; data compatibility and standardization; data confidentiality; additional data elements; and data sharing.

General Program Clarifications

The joint State commenters stated that the notice included few specifics about the program and they were uncertain whether implementation of this proposal would result in only the same information being provided by the States to NHTSA as is provided today, via different means, or whether implementation of this proposal would result in States providing more information than they do today.

NHTSA Response: The SDT program does result in States providing more information to NHTSA than they do today. Currently, NHTSA only collects crash data on a subset of all vehicle crashes. NHTSA collects data on all crashes involving fatalities through FARS and then collects samples of crashes through CRSS and CISS. This means that there are some crashes that States collect data on that are not reported to NHTSA. The SDT program allows States to submit crash data on all of their crashes to NHTSA. While the scope of the crashes NHTSA will collect data on is expanded, it is not NHTSA's intention to use the SDT program to seek any additional data elements beyond what the States are providing to NHTSA today. However, because State crash databases may contain more data elements than NHTSA currently collects in its existing collections, NHTSA may receive more data elements from some States than is currently collected. This will vary by State and is dependent on what data elements the State chooses to send to NHTSA. Additionally, participating States may choose to only send data on crashes to pre-populate the existing crash databases (i.e., FARS, CRSS, and CISS).

While the SDT program will collect data beyond what States currently provide to NHTSA, NHTSA expects that the EDT protocol will reduce the overall burden for participating States. The EDT protocol is expected to reduce manual data entry in connection with NHTSA's existing collections of crash data. Participation in either SDT protocol is completely voluntary and NHTSA expects States to participate only if they deem it beneficial to them. If a State chooses to participate in the EDT protocol, NHTSA will work with them to set up a data feed, which NHTSA will use to pre-populate existing crash databases. For example, a subset of the data will be pre-populated into the FARS system. Instead of State analysts manually inputting all of data into FARS program, they can focus on validating the data in the system and completing the FARS entry. This pre-coding of data is expected to reduce time spent on manual data entry and result in more accurate and higher quality data.

Program Participation

NHTSA received comments on program participation from ODOT, the joint State commenters, and GHSA. ODOT asked whether NHTSA has the authority to compel States to share or transfer data and ODOT, the joint State commenters, and GHSA commented on the voluntary nature of the program. The joint State commenters said that a voluntary approach would be preferred because of substantial legal and financial challenges to participation. GHSA commented that States are wary about new technology directives and concerned that the State Data Transfer will become mandatory. As support for this concern, GHSA mentioned the significant technical challenges that States faced with the launch of the Grants Management Solutions Suite (GMSS) by NHTSA's Office of Regional Operations and Program Delivery.

NHTSA Response: Participation in the SDT program is completely voluntary. NHTSA recognizes that some States would face considerable challenges to participation. Not all States currently have centralized data systems that would allow integration with NHTSA's interface. Because a centralized data system is necessary for participation in SDT, some States would not be able to participate or would need to first create a centralized data system, which would require significant time and financial resources.

Funding

The joint State commenters and ODOT commented about the availability of funding to help States achieve compliance with the proposed collection requirement. The joint State commenters state that States do not have unlimited fiscal or personnel resources to address these data issues and, absent new funding from USDOT, to implement this “information collection,” States will have to meet these new obligations by using Federal and/or State funds that otherwise would go to other safety programs and efforts. ODOT pointed out that no funding has been identified or provided to aid states in creating the software packages and translation modules to port the data from the state to NHTSA or to cover the costs of the creation of a statewide crash database in jurisdictions where none exists today. ODOT also stated that the SDT program would require reallocation of States' resources from other major information programs and information systems.

NHTSA Response: NHTSA notes that participation in the SDT program is voluntary. NHTSA understands the challenges of integrating data systems and, therefore, assesses each State's readiness for SDT implementation on a case-by-case basis. In order to assist a State wishing to improve its data systems, NHTSA offers incentive grants to states that improve State safety data systems, including to improve the compatibility and interoperability of the State and national data systems. States that are unable to support data transfer may contact NHTSA's regional office about whether the State may apply for a 405(c) State Traffic Safety Information System Improvement grant to improve its data systems.

Cost and Burden Estimates

ODOT, the joint State commenters, CVSA, and GHSA commented on NHTSA's cost and burden estimates for the EDT protocol. ODOT, the joint State commenters, and CVSA raised concerns that NHTSA underestimated the cost of participation. Specifically, ODOT stated that it thought that the estimates significantly underestimated the cost to States in full-time employee resources and budget by thousands of dollars. The joint State commenters pointed out that relevant data is not always housed in the transportation agencies and it may require a great deal of coordination between State agencies to gather the data. The joint State commenters also raised concerns about the cost of creating and testing software programs that may be needed. CVSA commented that many States would need to undergo significant information technology system changes to deliver the electronic data in the necessary format and that NHTSA underestimated the costs. The joint State commenters further expressed concerns that NHTSA has not issued specifications for the data to be transferred and its format, which makes estimating costs difficult. They also expressed concern that the EDT program would involve changes in the way data is input.

GHSA expressed concerns that if NHTSA's estimates are averages, there may be significant deviation based on State needs. However, GHSA acknowledged that some of the States that have already participated in SDT agreed with the estimates. GHSA also stated participating States report that SDT programs were lengthy to set up prior to implementing, which could include several months of coordinating calls between the State and NHTSA information technology staff focused chiefly on coordinating computer code.

NHTSA Response: The agency has updated the burden estimates for the EDT protocol to better reflect associated costs and anticipated number of new participants. These estimates were informed by the actual level of effort and costs incurred by States that have fully implemented the EDT protocol. The EDT State burden estimate covers the initial establishment of the State-NHTSA connection and subsequent, annualized data transmission and management requirements for submitting data to NHTSA. This cost does not cover any other cost, such as the design and implementation of a centralized crash database in a State. While such a centralized State system is required for SDT participation, the establishment of a centralized State crash database is outside the purview of this supplemental Federal program. SDT does not include the means for which crash data is collected and centralized and should only be considered the mechanism through which the States provide State crash data, voluntarily, to NHTSA using an electronic transmission process.

Data Compatibility and Standardization

ODOT commented on data compatibility and stated that different State agencies have responsibility for collecting crash data, inconsistent legislative reporting requirements, levels of transparency, and public data reporting limits. CVSA commented on the related topic of data standardization between States. CVSA stated that it encourages the adoption of the Model Minimum Uniform Crash Criteria (MMUCC) which provides a standardized data set for describing vehicle crashes. By further standardizing crash data collected, a more useful and robust data sample can be accumulated at the Federal level.

NHTSA Response: NHTSA has, in helping States implement EDT, encountered issues with data compatibility. NHTSA understands that States may have different reporting requirements and will work with the State to seek a mutually acceptable way to implement the EDT protocol. Regarding data standardization, the more compliant a State is with MMUCC, the easier it is for NHTSA to integrate a State's data system into the EDT program. NHTSA cross-references crash data to the MMUCC 5th Edition for internal use. While compliance with MMUCC is optimal for EDT implementation, it is not required.

Data Confidentiality

ODOT stated that there are security risks to a State's responsibility to protect personal identifying data and expressed concerns that by sending the data to a Federal agency, it would become a public record and be discoverable. ODOT and the joint State commenters are concerned that access to Federal data adds litigation risks to States and individuals. ODOT stated that it has a significant liability settlement threshold and NHTSA's data system is likely to generate new court cases that the State must defend. The joint State commenters concern that this data transfer to USDOT-NHTSA could create tension with, if not conflict with, State confidentiality protocols and requirements. The joint State commenters stated, 23 U.S.C. 148, “Highway safety improvement program,” includes paragraph (h)(4), which provides that “Notwithstanding any other provision of law, reports, surveys, schedules, lists, or data compiled or collected for any purpose relating to this section, shall not be subject to discovery or admitted into evidence in a Federal or State court proceeding or considered for other purposes in any action for damages arising from any occurrence at a location identified or addressed in the reports, surveys, schedules, lists, or other data.” The joint State commenters expressed concern that, given the relationship of any highway safety data to the safety purposes of 23 U.S.C. 148, moving data from State control to Federal control, at a minimum, risks undercutting the intent of 23 U.S.C. 148(h)(4), which includes allowing a State to review safety trends on specific routes for program purposes without having to disclose such information (protection from discovery). The joint State commenters noted that nothing in the notice states that consideration has been given to the potential implications for 23 U.S.C. 148(h)(4), as well as for tort exposure more generally.

GHSA recommended that NHTSA may be able to encourage State participation by clarifying the specific data elements sought in this program and whether and how States might “scrub” personal data, HIPAA information, or other sensitive data before submission. GHSA stated NHTSA clearly has robust procedures in place to comply with 23 U.S.C. 403 (e), which prohibits the public release of crash data that identifies individuals, but the States would benefit from some additional perspective.

NHTSA Response: Data collected by NHTSA is subject to Federal law. Consistent with Federal law, and NHTSA policy, personally identifiable information (PII) contained in SDT data will not be disclosed to the public. All SDT data is encrypted during transfer and maintained in a password protected network drive, with limited access. SDT data is not directly published or made available to analysts outside of DOT because of States concerns. Study data (e.g., FARS, CRSS, CISS, etc.) is published annually only after thorough quality control that ensures PII is withheld from disclosure. NHTSA may also publish aggregated SDT data in reports that analyze the data without disclosing any PII to the public.

Additional Data Elements

The IIHS commented that, to increase the value of the data collected, the agency should collect vehicle specific (VIN-based) information on advanced crash avoidance and driving automation technologies, particularly in vehicles for which the features are optional. The information could be obtained from manufacturers and included in the final publicly-available crash databases. This would be a major step in enabling researchers to estimate how such features affect crash risk.

NHTSA Response: We appreciate IIHS's suggestions about identifying vehicle specific information for the purposes of analyzing the data when safety equipment is optional on a vehicle line and not standard. However, collecting vehicle specific information on the type of safety features the vehicle is equipped is outside the scope of this information collection clearance.

Data Sharing

GHSA and CVSA commented about data sharing. GHSA commented that States want details on how NHTSA plans to use SDT data on the Federal level and asked about how the data would be made available to other Federal agencies. CVSA commented that the data that is collected at the Federal level should be made available to more than just the U.S. Department of Transportation and other Federal agencies. CVSA recommended that the collected data be made available to States, academia, organizations and other interested parties that can utilize the data to help improve highway safety.

NHTSA Response: NHTSA intends to share the data to other DOT agencies, such as the Federal Highway Administration and the Federal Motor Carrier Safety Administration, to support their mission to save lives on our national roadways. However, NHTSA will not be making the data available to analysts outside of DOT because of concerns expressed by some of the State participants.

Affected Public: State Governments.

This voluntary information collection involves State governments, and specifically the State agencies that collect crash data.

Estimated Number of Respondents: 38.

Currently, 31 States are voluntarily submitting their annual crash database to NHTSA using the SDS protocol once the Annual file is complete and 19 States are voluntarily submitting their State's data using the EDT protocol where the transfer occurs on a nightly basis. NHTSA estimates that, on average, in each of the next three years, there will be 31 States submitting data using the SDS protocol and 23 States submitting data using the EDT protocol. NHTSA estimates that there will be 15 States submitting data through both EDT and SDS. Therefore, NHTSA estimates the total number of respondents to be 38.

Frequency

The frequency of this information collection varies State-by-State, potentially from daily to annually, as agreed upon by NHTSA and the individual States. State participating in the SDS protocol typically send a file to NHTSA once a year with all the crashes occurring during a calendar year. States send these files when it has completed its quality control process. For the EDT States, the data is usually transferred every night with the crash cases that have completed the quality control process since the last nightly transfer.

Estimated Total Annual Burden Hours: 683 hours.

SDT receives the crash data from States in two different ways. SDS information is obtained annually from States submitted in a more traditional method via electronic media through secured mail or a Secure File Transfer Protocol (SFTP). NHTSA assumes a participating State already has a centralized electronic crash database. Currently, 31 States are voluntarily submitting their annual crash database to NHTSA, with five States sending electronic media and 26 states uploading the database to an SFTP site. Since NHTSA accepts the States' centralized electronic crash database without changes, NHTSA estimates that it will required eight hours for a State Database Administrator to save a copy of the State's annual crash database onto a SFTP site or electronic media. We estimate an additional four hours will be required for an administrative assistant to package and send the electronic media to NHTSA.

To estimate the labor cost associated with submitting the SDS information, NHTSA looked at wage estimates for the type of personnel involved with copying, packaging and sending the database. NHTSA estimates the total labor costs associated with copying the database by looking at the average wage for Database and Network Administrator and Architects. The Bureau of Labor Statistics (BLS) estimates that the average hourly wage for Database and Network Administrator and Architects (Standard Occupational Classification #15-1240, May 2020) is $47.80.⁸ The Bureau of Labor Statistics estimates that State and local government workers' wages represent 61.9% of total labor compensation costs.⁹ Therefore, NHTSA estimates the hourly labor costs for copying the database to be $77.22 ($47.80 ÷ 61.9%) for Database and Network Administrator and Architects. The cost associated with the eight hours of Database and Network Administrator labor is estimated to be $617.76 per respondent.

⁸ See May 2020 National Occupational Employment and Wage Estimates United States, available at https://www.bls.gov/oes/current/oes_nat.htm (accessed April 16, 2021).

⁹ See Table 1. Employer Costs for Employee Compensation by ownership (Dec. 2020), available at https://www.bls.gov/news.release/ecec.t01.htm (accessed April 16, 2021).

For the 5 States sending electronic media, NHTSA estimates the total labor costs for packing and sending the database by looking at the average wage for Secretaries and Administrative Assistants. The BLS estimates that the average hourly wage for Secretaries and Administrator Assistants (Standard Occupational Classification #43-6014, May 2020) is $19.43 ¹⁰ By using the same estimate that wages represent 61.9% of the total compensation cost of labor, NHTSA estimates the total labor hour for packing and sending the database on electronic media to be $31.39. Therefore, the cost associated with the four hours to send the electronic media is estimated to be $125.56 per respondent.

¹⁰ See May 2020 National Occupational Employment and Wage Estimates United States, available at https://www.bls.gov/oes/current/oes_nat.htm (accessed April 16, 2021).

Combining these copying and packing and sending burden estimates for SDS, NHTSA estimates that the total burden hours associated with this collection will be 268 (248 + 20 hours) hours and total labor cost associated with the collection will be $19,151 ($617.76 × 31 States) for copying and $628 ($125.56 × 5 States) for packing and sending, for a total of $19,779 ($19,151 + $628) for the SDS protocol.

The EDT protocol burden hour estimate is based on the level of effort reported by the States that have fully implemented SDT. NHTSA estimates that in each of the next three years, there will be two new States joining the 19 States already participating in SDT program using the EDT protocol. Therefore, NHTSA estimates that there will be, on average, 23 EDT protocol States in each of the next three years. Cost and burden estimates for the EDT protocol are divided in two: A one-time implementation effort, and an annual maintenance effort. Both estimates assume a participating State already has a centralized electronic crash database. The burden for the one-time implementation of the SDT program is estimated at 200 hours. NHTSA estimates that these hours will account for work done by State IT (150hrs) and FARS program personnel (50hrs).

Once implemented, the hourly burden on States associated with SDT maintenance is estimated at five hours per year, based upon currently participating States' experiences. This time is generally used to troubleshoot any connection issues or refine mapping protocols for any data elements that have changed.

NHTSA estimates the cost for IT personnel burden hours using the Bureau of Labor Statistics' mean wage estimate for Software developers and Programmers (Standard Occupational Classification #15-1250) of $52.86.¹¹ The Bureau of Labor Statistics estimates that for State and local government workers, wages represent 61.9% of total compensation.¹² Therefore, the total hourly cost associated with the IT burden hours is estimated to be $85.40 per hour. The cost associated with the 150 hours of IT personnel labor is estimated to be $12,810.00 per respondent. Initial SDT implementation is also expected to involve 50 hours of FARS program personnel time. There is no additional cost to the States associated with these hours because these costs may be charged to the Federal Government through the FARS cooperative agreements. Thus, total labor cost for EDT implication costs per State are estimated to be $12,810.00. The total annual implementation burden cost per year is estimated to be $25,620 ($12,810.00 × 2 new State respondents).

¹¹ See May 2020 National Occupational Employment and Wage Estimates United States, available at https://www.bls.gov/oes/current/oes_nat.htm (accessed April 16, 2021).

¹² Employer Costs for Employee Compensation by ownership (Dec. 2020), available at https://www.bls.gov/news.release/ecec.t01.htm (accessed April 16, 2021.

After initial implementation of a SDT interface, the ongoing cost burden to participating States is estimated at 5 hours per State annually, based on a survey of currently participating States. Per the loaded labor rates for State IT staff outlined above, 5 hours of work translates to an estimated total annual maintenance burden of $427.00 per State respondent maintaining participation in the SDT program. NHTSA estimates that there will be, on average, 23 States participating in EDT program in each of the next three years. Therefore, the annual maintenance cost for the States is a total of $9,821.00 ($427.00 × 23 States) per year.

Combining these implementation and maintenance burden estimates for the EDT protocol, NHTSA estimates that the total burden hours associated with this collection will be 415 hours and total labor cost associated with the collection will be $35,441.00.

The total estimated burden for SDT is 683 (268 SDS + 415 EDT) and total estimated labor cost is $55,220 ($19,779 SDS + $35,441 EDT).

A summary of the burden estimates is provided in the table below.

SDT Burden Estimate Summary
Burden type | Respondents | Burden per respondent | Total burden hours | Cost per burden hour | Cost per respondent | Total labor cost
SDS Copying | 31 | 8 | 248 | $77.22 | $617.76 | $19,150,56 19,151
SDS Packing and sending | 5 | 4 | 20 | 31.39 | 125.56 | 627.80 628
EDT IT Implementation | 2 | 150 | 300 | 85.40 | 12,810.00 | 25,620.00 25,620
EDT Maintenance | 23 | 5 | 115 | 85.40 | 427.00 | 9,821.00 9,821
|  |  | 683 |  |  | 55,220

Estimated Total Annual Burden Cost: $0.

NHTSA does not expect that participating states will incur any costs beyond the labor hour cost associated with the burden hours.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29.

Chou-Lin Chen,
Associate Administrator, National Center for Statistics and Analysis.

[FR Doc. 2021-11499 Filed 5-28-21; 8:45 am]

BILLING CODE 4910-59-P